ENVIRONMENTAL PROTECTION AGENCY

Clean Air Act Advisory Committee; Notice of charter renewal

AGENCY: Environmental Protection Agency (EPA).

ACTION: Notice of charter renewal.

Notice is hereby given that the Environmental Protection Agency (EPA) has determined that, in accordance with the provisions of the Federal Advisory Committee Act (FACA), 5 U.S.C. App. 2, the Clean Air Act Advisory Committee (CAAAC) is a necessary committee that is in the public interest. Accordingly, CAAAC will be renewed for an additional two-year period. The purpose of the CAAAC to provide advice and recommendations to the EPA Administrator on policy issues associated with implementation of the Clean Air Act. Inquiries may be directed to Jeneva Craig, CAAAC Designated Federal Officer, U.S. EPA, 1200 Pennsylvania Avenue NW., (Mail Code 6103A), Washington, DC 20460, or by email to craig.jeneva@epa.gov.

Dated: October 7, 2014.
Jeneva Craig,
Designated Federal Officer, Clean Air Act Advisory Committee, Office of Air and Radiation.

[FR Doc. 2014-25001 Filed 10-20-14; 8:45 am]

BILLING CODE 6560-50-P